DEPARTMENT OF DEFENSE

48 CFR Parts 209 and 252

[DFARS Case 2003-D011]

Defense Federal Acquisition Regulation Supplement; Contractor Qualifications Relating to Contract Placement

AGENCY: Department of Defense (DoD).

ACTION: Final rule.

SUMMARY: DoD has issued a final rule amending the Defense Federal Acquisition Regulation Supplement (DFARS) to delete text pertaining to contractor qualification requirements. This rule is a result of a transformation initiative undertaken by DoD to dramatically change the purpose and content of the DFARS.

DATES: Effective Date: November 10, 2004.

FOR FURTHER INFORMATION CONTACT: Ms. Robin Schulze, Defense Acquisition Regulations Council, OUSD(AT&L)DPAP(DAR), IMD 3C132, 3062 Defense Pentagon, Washington, DC 20301-3062. Telephone (703) 602-0326; facsimile (703) 602-0350. Please cite DFARS Case 2003-D011.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dfars/transf.htm.

This final rule is a result of the DFARS Transformation initiative. The DFARS changes include—

• Deletion of text at DFARS 209.103, 209.103-70, and 252.209-7000 pertaining to obsolete Intermediate Range Nuclear Forces (INF) Treaty inspection requirements.

• Deletion of text at DFARS 209.106-1, 209.106-2, and 209.202 containing internal DoD procedures relating to requests for pre-award surveys and approval for use of product qualification requirements. This text has been relocated to the new DFARS companion resource, Procedures, Guidance, and Information (PGI), available at http://www.acq.osd.mil/dpap/dars/pgi.

• Deletion of unnecessary first article testing and approval requirements in DFARS subpart 209.3.

DoD published a proposed rule at 69 FR 8150 on February 23, 2004. DoD received no comments on the proposed rule. Therefore, DoD has adopted the proposed rule as a final rule. An additional change has been made at DFARS 209.202 to reflect the qualification requirements for aviation critical safety items added to the DFARS on September 17, 2004 (69 FR 55987).

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because the rule deletes DFARS text that is obsolete, unnecessary, or procedural, but makes no significant change to contracting policy.

C. Paperwork Reduction Act

The Paperwork Reduction Act does not apply because the rule does not impose any information collection requirements that require the approval of the Office of Management and Budget under 44 U.S.C. 3501, et seq.

List of Subjects in 48 CFR Parts 209 and 252

Government procurement.

Michele P. Peterson,
Executive Editor, Defense Acquisition Regulations Council.

Therefore, 48 CFR parts 209 and 252 are amended as follows:

1. The authority citation for 48 CFR parts 209 and 252 continues to read as follows:

Authority: 41 U.S.C. 421 and 48 CFR Chapter 1.

PART 209—CONTRACTOR QUALIFICATIONS

209.103 and 209.103-70 [Removed]

2. Sections 209.103 and 209.103-70 are removed.

3. Section 209.106 is revised to read as follows:

209.106 Preaward surveys.

When requesting a preaward survey, follow the procedures at PGI 209.106.

209.106-1 and 209.106-2 [Removed]

4. Sections 209.106-1 and 209.106-2 are removed.

5. Section 209.202 is revised to read as follows:

209.202 Policy.

(a)(1) Except for aviation critical safety items, obtain approval in accordance with PGI 209.202(a)(1) when establishing qualification requirements. See 209.270 for approval of qualification requirements for aviation critical safety items.

Subpart 209.3 [Removed]

6. Subpart 209.3 is removed.

PART 252—SOLICITATION PROVISIONS AND CONTRACT CLAUSES

252.209-7000 [Removed and Reserved]

7. Section 252.209-7000 is removed and reserved.

[FR Doc. 04-24862 Filed 11-9-04; 8:45 am]

BILLING CODE 5001-08-P